DEPARTMENT OF ENERGY

Federal Energy Regulatory Commission

Combined Notice of Filings #1

Take notice that the Commission received the following electric rate filings:

Docket Numbers: ER10-1982-015; ER10-1246-014; ER10-1252-014; ER10-1253-014.

Applicants: Consolidated Edison Energy, Inc, Consolidated Edison Solutions, Inc., Consolidated Edison Company of New York, Inc., Orange and Rockland Utilities, Inc.

Description: Triennial Market Power Analysis of the Con Edison Companies.

Filed Date: 12/16/19.

Accession Number: 20191216-5098.

Comments Due: 5 p.m. ET 2/14/20.

Docket Numbers: ER10-2732-018; ER10-2733-018; ER10-2734-018; ER10-2736-018; ER10-2737-018; ER10-2741-018; ER10-2749-018; ER10-2752-018; ER12-2492-014; ER12-2493-014; ER12-2494-014; ER12-2495-014; ER12-2496-014; ER14-264-005; ER16-2455-008; ER16-2456-008; ER16-2457-008; ER16-2459-008; ER18-1404-004; ER19-2096-001.

Applicants: Emera Energy Services, Inc., Emera Energy LNG, LLC, Emera Energy Services Subsidiary No. 1 LLC, Emera Energy Services Subsidiary No. 2 LLC, Emera Energy Services Subsidiary No. 3 LLC, Emera Energy Services Subsidiary No. 4 LLC, Emera Energy Services Subsidiary No. 5 LLC, Emera Energy Services Subsidiary No. 6 LLC, Emera Energy Services Subsidiary No. 7 LLC, Emera Energy Services Subsidiary No. 8 LLC, Emera Energy Services Subsidiary No. 9 LLC, Emera Energy Services Subsidiary No. 10 LLC, Emera Energy Services Subsidiary No. 11 LLC, Emera Energy Services Subsidiary No. 12 LLC, Emera Energy Services Subsidiary No. 13 LLC, Emera Energy Services Subsidiary No. 15 LLC, Emera Energy U.S. Subsidiary No. 1, Inc., Emera Energy U.S. Subsidiary No. 2, Inc., Emera Maine, NS Power Energy Marketing Inc.

Description: Triennial Market Power Update for Northeast Region of the Emera Entities.

Filed Date: 12/16/19.

Accession Number: 20191216-5065.

Comments Due: 5 p.m. ET 2/14/20.

Docket Numbers: ER11-3376-005; ER11-3377-005; ER11-3378-005.

Applicants: North Hurlburt Wind, LLC, Horseshoe Bend Wind, LLC, South Hurlburt Wind, LLC.

Description: Triennial Market Power Analysis for Northwest Region of North Hurlburt Wind, LLC, et al.

Filed Date: 12/13/19.

Accession Number: 20191213-5225.

Comments Due: 5 p.m. ET 2/11/20.

Docket Numbers: ER19-460-005.

Applicants: Southwest Power Pool, Inc.

Description: Compliance filing: Order No. 841 Compliance Filing in Response to October 2019 Order to be effective 12/31/9998.

Filed Date: 12/16/19.

Accession Number: 20191216-5060.

Comments Due: 5 p.m. ET 1/6/20.

Docket Numbers: ER19-469-003.

Applicants: PJM Interconnection, L.L.C.

Description: Compliance filing: Compliance Filing Pursuant October 17, 2019 Order re ESR to be effective 12/3/2019.

Filed Date: 12/16/19.

Accession Number: 20191216-5080.

Comments Due: 5 p.m. ET 1/6/20.

Docket Numbers: ER20-270-002.

Applicants: Dynegy Oakland, LLC.

Description: Tariff Amendment: Deferral of Commission Action to Permit Ongoing Settlement Discussions to be effective 12/31/9998.

Filed Date: 12/13/19.

Accession Number: 20191213-5205.

Comments Due: 5 p.m. ET 1/3/20.

Docket Numbers: ER20-599-000.

Applicants: Northern Indiana Public Service Company.

Description: § 205(d) Rate Filing: Filing of a CIAC Agreement to be effective 2/11/2020.

Filed Date: 12/13/19.

Accession Number: 20191213-5181.

Comments Due: 5 p.m. ET 1/3/20.

Docket Numbers: ER20-600-000.

Applicants: Florida Power & Light Company.

Description: § 205(d) Rate Filing: FPL-TECO-Revisions to Rate Schedule No. 23 Contract for Interchange Service to be effective 1/1/2020.

Filed Date: 12/13/19.

Accession Number: 20191213-5187.

Comments Due: 5 p.m. ET 1/3/20.

Docket Numbers: ER20-601-000.

Applicants: Northern Indiana Public Service Company.

Description: § 205(d) Rate Filing: Filing of a CIAC Agreement to be effective 2/11/2020.

Filed Date: 12/13/19.

Accession Number: 20191213-5206.

Comments Due: 5 p.m. ET 1/3/20.

Docket Numbers: ER20-602-000.

Applicants: Northern Indiana Public Service Company.

Description: § 205(d) Rate Filing: Filing of a CIAC Agreement to be effective 1/15/2020.

Filed Date: 12/13/19.

Accession Number: 20191213-5207.

Comments Due: 5 p.m. ET 1/3/20.

Docket Numbers: ER20-603-000.

Applicants: Northern Indiana Public Service Company.

Description: § 205(d) Rate Filing: Filing of a CIAC Agreement to be effective 1/15/2020.

Filed Date: 12/13/19.

Accession Number: 20191213-5209.

Comments Due: 5 p.m. ET 1/3/20.

Docket Numbers: ER20-604-000.

Applicants: PacifiCorp.

Description: Notice of Cancellation of Rate Schedule No. 298 of PacifiCorp.

Filed Date: 12/13/19.

Accession Number: 20191213-5239.

Comments Due: 5 p.m. ET 1/3/20.

Docket Numbers: ER20-605-000.

Applicants: Midcontinent Independent System Operator, Inc.

Description: § 205(d) Rate Filing: 2019-12-16_SA 3391 Ameren IL-Maple Flats Solar Energy Center GIA (J813) to be effective 12/2/2019.

Filed Date: 12/16/19.

Accession Number: 20191216-5071.

Comments Due: 5 p.m. ET 1/6/20.

Docket Numbers: ER20-606-000.

Applicants: Midcontinent Independent System Operator, Inc.

Description: § 205(d) Rate Filing: 2019-12-16_SA 3390 MDU-Emmons-Logan Wind GIA (J302 J503) to be effective 12/2/2019.

Filed Date: 12/16/19.

Accession Number: 20191216-5074.

Comments Due: 5 p.m. ET 1/6/20.

Take notice that the Commission received the following electric securities filings:

Docket Numbers: ES20-11-000.

Applicants: ITC Midwest LLC.

Description: Application Under Section 204 of the Federal Power Act for Authorization to Issue Securities of ITC Midwest LLC.

Filed Date: 12/16/19.

Accession Number: 20191216-5105.

Comments Due: 5 p.m. ET 1/6/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 16, 2019.
Nathaniel J. Davis, Sr.,
Deputy Secretary.

[FR Doc. 2019-27496 Filed 12-19-19; 8:45 am]

BILLING CODE 6717-01-P